DEPARTMENT OF COMMERCE

International Trade Administration

[A-485-805]

Carbon and Alloy Seamless Standard, Line and Pressure Pipe (Under 4.5 Inches) From Romania: Rescission of Antidumping Duty Administrative Review; 2019-2020

AGENCY: Enforcement and Compliance, International Trade Administration, Department of Commerce.

SUMMARY: The Department of Commerce (Commerce) is rescinding the administrative review of the antidumping duty order on carbon and alloy seamless standard, line and pressure pipe (under 4.5 inches) (small diameter seamless pipe) from Romania for the period August 1, 2019, through July 31, 2020.

DATES: Applicable November 13, 2020.

FOR FURTHER INFORMATION CONTACT: Katherine Johnson or Samantha Kinney, AD/CVD Operations, Office VIII, Enforcement and Compliance, International Trade Administration, Department of Commerce, 1401 Constitution Avenue NW, Washington, DC 20230; telephone: (202) 482-4929 or 202-482-2285 respectively.

SUPPLEMENTARY INFORMATION:

Background

On October 6, 2020, based on a timely request for review of four companies by United States Steel Corporation (the petitioner),¹ Commerce published in the Federal Register a notice of initiation of an administrative review of the antidumping duty order on small diameter seamless pipe from Romania covering the period August 1, 2019, through July 31, 2020.²

¹ See the Petitioner's Letter, “Carbon and Alloy Seamless Standard, Line, and Pressure Pipe (Under 4½ Inches) from Romania: Request for Administrative Review,” dated August 31, 2020 (Request for Review).

² See Initiation of Antidumping and Countervailing Duty Administrative Reviews, 85 FR 63081 (October 6, 2020) (Initiation Notice).

On October 28, 2020, the petitioner withdrew its request for administrative review of the four companies in its Request for Review: ArcelorMittal Tubular Products Roman S.A., SC TMK-Artrom S.A.,³ Kurvers Piping Italy S.R.L., and Silcotub S.A.⁴ No other interested parties requested an administrative review.

³ The withdrawal of request for administration review listed this company as SC TMK-Artom S.A. However, the correct spelling of the company name is SC TMK-Artrom S.A.

⁴ See Petitioner's Letter, “Carbon and Alloy Seamless Standard Line, and Pressure Pipe (Under 4½ Inches) from Romania: Withdrawal of Request for Administrative Review of Antidumping Duty Order,” dated October 28, 2020.

Rescission of Review

Pursuant to 19 CFR 351.213(d)(1), Commerce will rescind an administrative review, in whole or in part, if the party that requested the review withdraws its request within 90 days of the date of publication of the notice of initiation of the requested review. Because the petitioner's request for administrative review of ArcelorMittal Tubular Products Roman S.A., SC TMK-Artrom S.A., Kurvers Piping Italy S.R.L., and Silcotub S.A. was withdrawn within 90 days of the date of publication of the Initiation Notice, and no other interested party requested a review of these or any other companies, Commerce is rescinding this review in accordance with 19 CFR 351.213(d)(1), in its entirety.

Assessment

Commerce will instruct U.S. Customs and Border Protection (CBP) to assess antidumping duties on all appropriate entries at a rate equal to the cash deposit of estimated antidumping duties required at the time of entry, or withdrawal from warehouse, for consumption, during the period August 1, 2019, through July 31, 2020, in accordance with 19 CFR 351.212(c)(1)(i). Commerce intends to issue appropriate assessment instructions to CBP 15 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: November 9, 2020.
James Maeder,
Deputy Assistant Secretary for Antidumping and Countervailing Duty Operations.

[FR Doc. 2020-25157 Filed 11-12-20; 8:45 am]

BILLING CODE 3510-DS-P